ENVIRONMENTAL PROTECTION AGENCY

[OPPT-2002-0001; FRL-7718-2]

National Pollution Prevention and Toxics Advisory Committee (NPPTAC); Notice of Public Meeting

AGENCY: Environmental Protection Agency (EPA).

ACTION: Notice.

SUMMARY: Under the Federal Advisory Committee Act (FACA), 5 U.S.C. App. 2 (Public Law 92-463), EPA gives notice of a 2-day meeting of the National Pollution Prevention and Toxics Advisory Committee (NPPTAC). The purpose of the NPPTAC is to provide advice and recommendations to EPA regarding the overall policy and operations of the programs of the Office of Pollution, Prevention and Toxics (OPPT).

DATES: The meeting will be held on June 29, 2005 from 8 a.m. to 10 a.m., and on June 30, 2005 from 10 a.m. to 3:30 p.m.

Registration to attend the meeting, identified by docket ID number OPPT-2002-0001, must be received on or before June 24, 2005. Registration will also be accepted at the meeting.

Requests to provide oral comments at the meeting, identified as NPPTAC June 2005 meeting, must be received in writing on or before June 17, 2005.

Written comments, identified as NPPTAC June 2005 meeting, may be submitted at any time. Written comments received on or before June 17, 2005, will be forwarded to the NPPTAC members prior to or at the meeting.

Meetings of the four Work Groups of the Committee will take place as follows. The High Production Volume (HPV) Work Group will meet on June 28, 2005, from 9 a.m. to 5 p.m., to discuss activities related to EPA's HPV Challenge Program. The Pollution Prevention (P2) Work Group will meet on June 28, 2005, from 9:00 a.m. to 5:00 p.m., to discuss activities related to EPA's Pollution Prevention Programs. The Tribal Issues Work Group will meet on June 29, 2005, from 10:15 a.m. to 5:30 p.m., to discuss activities related to EPA's coordination with Tribes and Tribal Organizations. The Broader Issues Work Group will meet on June 29, 2005, from 10:15 a.m. to 5:30 p.m., to discuss activities related to EPA's New Chemicals and Existing Chemicals Programs.

ADDRESSES: The meeting will be held at the Holiday Inn, Washington/Silver Spring, 8777 Georgia Ave., Silver Spring, Maryland, 20910.

For address information concerning registration, the submission of written comments, and requests to present oral comments, refer to Unit I. of the SUPPLEMENTARY INFORMATION.

FOR FURTHER INFORMATION CONTACT: For general information contact: Colby Lintner, Regulatory Coordinator, Environmental Assistance Division (7408M), Office of Pollution, Prevention and Toxics, Environmental Protection Agency, 1200 Pennsylvania Ave., NW., Washington, DC 20460-0001; telephone number: (202) 554-1404; e-mail address:TSCA-Hotline@epa.gov.

For technical information contact: John Alter, (7408M), Office of Pollution, Prevention and Toxics, Environmental Assistance Division, Environmental Protection Agency, 1200 Pennsylvania Ave., NW., Washington, DC 20460-0001; telephone number: (202) 564-9891; e-mail address:npptac.oppt@epa.gov.

SUPPLEMENTARY INFORMATION:

I. General Information

A. Does this Action Apply to Me?

This action is directed to the public in general, and may be of particular interest to those persons who have an interest in or may be required to manage pollution prevention and toxic chemical programs, individuals, groups concerned with environmental justice, children's health, or animal welfare, as they relate to OPPT's programs under the Toxic Substances Control Act (TSCA) and the Pollution Prevention Act (PPA). Since other entities may also be interested, the Agency has not attempted to describe all the specific entities that may be interested in the activities of the NPPTAC. If you have any questions regarding the applicability of this action to a particular entity, consult the person listed under FOR FURTHER INFORMATION CONTACT.

B. How Can I Get Copies of this Document and Other Related Information?

1. Docket. EPA has established an official public docket for this action under docket identification (ID) number OPPT-2002-0001. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744, and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and to Whom Do I Submit Comments?

You may submit comments electronically, by mail, or through hand delivery/courier. To ensure proper receipt by EPA, identify the appropriate docket ID number OPPT-2002-0001, NPPTAC June 2005 meeting in the subject line on the first page of your comment.

1. By mail: OPPT Document Control Office, Environmental Protection Agency, 7407M, 1200 Pennsylvania Avenue, NW., Washington, DC 20460-0001.

2. Electronically: At http://www.epa.gov/edocket/, search for OPPT-2002-0001, and follow the directions to submit comments.

3. Hand delivery/courier: OPPT Document Control Office in EPA East Bldg., Rm. M6428, 1201 Constitution Ave., NW., Washington DC.

II. Background

The proposed agenda for the NPPTAC meeting includes: The High Production Volume Challenge Program; Pollution Prevention, Risk Assessment; Risk Management; Risk Communication, and Coordination with Tribes and other Stakeholders. The meeting is open to the public.

III. How Can I Request to Participate in this Meeting?

You may request to attend the meeting by filling out the registration form according to the instructions listed under Unit I.A. Please note that registration will assist in planning adequate seating; however, members of the public can register the day of the meeting. Therefore all seating will be available on a first come, first serve basis.

1. To register to attend the meeting. Pre-registration for the June 2005 NPPTAC meeting, and requests for special accommodations may be made by visiting the NPPTAC web site at: http://www.epa.gov/oppt/npptac/meetings.htm. Registration will also be available at the meeting. Special accommodations may also be requested by calling (202) 564-9891, and leaving your name and telephone number.

2. To request an opportunity to provide oral comments. You must register first in order to request an opportunity to provide oral comments at the June 2005 NPPTAC meeting. To register visit the NPPTAC web site at: http://www.epa.gov/oppt/npptac/meetings.htm. Request to provide oral comments at the meeting must be submitted in writing on or before June 17, 2005, with a registration form. Please note that time for oral comments may be limited to 3 to 5 minutes per speaker, depending on the number of requests received.

3. Written comments. You may submit written comments to the docket listed under Unit I.B. Written comments can be submitted at any time. If written comments are submitted on or before June 17, 2005, they will be provided to the NPPTAC members prior to or at the meeting. If you provide written comments at the meeting, 35 copies will be needed.

Do not submit any information that is considered CBI.

List of Subjects

Environmental protection, NPPTAC, pollution prevention, toxics, toxic chemicals, chemical health and safety.

Dated: June 6, 2005.
Wendy C. Hamnett,
Acting Director, Office of Pollution, Prevention and Toxics.

[FR Doc. 05-11717 Filed 6-13-05; 8:45 am]

BILLING CODE 6560-50-S